DEPARTMENT OF TRANSPORTATION

Research and Special Programs Administration

49 CFR Parts 171, 172, 173, 174, 175, 176, 177, 178, 179, 180

[Docket No. RSPA-99-6283 (HM-230)]

RIN 2137-AD39

Hazardous Materials Regulations; Compatibility With the Regulations of the International Atomic Energy Agency

AGENCY: Research and Special Programs Administration (RSPA), DOT.

ACTION: Advance notice of proposed rulemaking: extension of time to file comments.

SUMMARY: RSPA is extending for 90 days, until June 29, 2000, the period for filing comments to an advance notice of proposed rulemaking (ANPRM) published under Docket HM-230. RSPA is taking this action in response to a petition filed by the United States Department of Energy (DOE). DOE requested that RSPA allow additional time for interested persons to review and provide comments on the ANPRM and the recent changes contained in the International Atomic Energy Agency (IAEA) publication titled “IAEA Safety Standards Series: Regulations for the Safe Transport of Radioactive Material, 1996 Edition, Requirements, No. ST-1” (hereafter referred to as ST-1).

DATES: Comments must be received on or before June 29, 2000. To the extent practicable, we will consider comments received after this date.

ADDRESSES: Submit written comments to the Dockets Management System, U.S. Department of Transportation, PL 401, 400 Seventh Street, SW, Washington, D.C. 20590-0001. Comments should refer to Docket Number RSPA-99-6283 and be submitted in two copies. If you wish to receive confirmation of receipt of your written comments, include a self-addressed, stamped postcard. Comments may also be submitted to the docket electronically by logging onto the Dockets Management System website at http://dms.dot.gov. Click on “Help & Information” to obtain instructions for filing the comment electronically. In every case, the comment should refer to the Docket number “RSPA-99-6283”.

The Dockets Management System is located on the Plaza level of the Nassif Building at the Department of Transportation at the above address. You can review public dockets there between the hours of 9:00 a.m. and 5:00 p.m., Monday through Friday, except Federal holidays. You can also review comments on-line at the DOT Dockets Management System web site at “http://dms.dot.gov/.”

FOR FURTHER INFORMATION CONTACT: Dr. Fred D. Ferate II, Office of Hazardous Materials Technology, (202) 366-4545, or Charles E. Betts, Office of Hazardous Materials Standards, (202) 366-8553; RSPA, U.S. Department of Transportation, 400 Seventh Street SW, Washington, DC 20590-0001.

SUPPLEMENTARY INFORMATION: On December 28, 1999, RSPA published an ANPRM in the Federal Register under Docket HM-230 (64 FR 72633) that solicits comments on the development of regulations to harmonize the radioactive materials requirements in the Hazardous Materials Regulations (HMR) with the recent changes contained in the IAEA publication, ST-1, on the transportation of radioactive materials. In the ANPRM, specific comments are requested from interested persons in defining the scope of the notice of proposed rulemaking, i.e., extent to which differences between the HMR and the IAEA publication ST-1 should be considered in proposing changes to the HMR.

RSPA received a petition from DOE requesting an extension of the comment period to the ANPRM for an additional 90 days. DOE stated that it is still in the process of obtaining and distributing the information in ST-1 to its sizeable transportation community. RSPA agrees additional time should be allowed and is extending the comment period from March 29, 2000 to June 29, 2000.

Issued in Washington, DC on February 23, 2000, under authority delegated in 49 CFR Part 106.
Robert A. McGuire,
Acting Associate Administrator for Hazardous Materials Safety.

[FR Doc. 00-4926 Filed 2-29-00; 8:45 am]

BILLING CODE 4910-60-P